DEPARTMENT OF HEALTH AND HUMAN SERVICES

Meeting Announcement for the Physician-Focused Payment Model Technical Advisory Committee Required by the Medicare Access and CHIP Reauthorization Act (MACRA) of 2015

ACTION: Notice of public meeting.

SUMMARY: This notice announces the meeting date for the Physician-Focused Payment Model Technical Advisory Committee (hereafter referred to as “the Committee”) on Friday, September 16, 2016 in Washington, DC.

DATES: The meeting will be held on Friday, September 16, 2016, from 9:00 a.m. to 12:30 p.m. Eastern Daylight Time (EDT) and it is open to the public.

ADDRESSES: The meeting will be held in the Senate Meeting Room at the Residence Inn, 333 E Street SW., Washington, DC 20024.

FOR FURTHER INFORMATION CONTACT: Ann Page, Designated Federal Officer, at the Office of Health Policy, Assistant Secretary for Planning and Evaluation, U.S. Department of Health and Human Services, 200 Independence Ave. SW., Washington, DC 20201, (202) 690-6870.

SUPPLEMENTARY INFORMATION:

I. Purpose: The Physician-Focused Payment Model Technical Advisory Committee (“the Committee”) is required by the Medicare Access and CHIP Reauthorization Act of 2015, 42 U.S.C 1395ee. This Committee is also governed by provisions of the Federal Advisory Committee Act, as amended (5 U.S.C App.), which sets forth standards for the formation and use of federal advisory committees. In accordance with its statutory mandate, the Committee is to review physician-focused payment model proposals and prepare recommendations regarding whether such models meet criteria that will be established through rulemaking by the Secretary of Health and Human Services (the Secretary). The Committee is composed of 11 members appointed by the Comptroller General.

II. Agenda. The Committee will continue discussions about the process by which physician-focused payment model proposals will be received and reviewed by the Committee after the Secretary establishes criteria for physician-focused payment models through rulemaking. There will be time allocated for public comment on the Committee's proposal review processes and revised draft documents. These revised documents will be posted on the Committee Web site and distributed on the Committee listserv prior to the public meeting.

III. Meeting Attendance. The September 16, 2016 meeting is open to the public; however, in-person attendance is limited to space available. Priority to attend the meeting in-person will be given to those who pre-register. If the meeting venue reaches its seating capacity, other registrants will be limited to participating by telephone.

Meeting Registration

The public may attend the meeting in-person or listen by phone via audio teleconference. Space is limited and registration is required in order to attend in-person or by phone. Registration may be completed online at https://www.regonline.com/PTACMeetingsRegistration. All the following information must be submitted when registering:

Name.

Company name.

Postal address.

Email address.

If sign language interpretation or other reasonable accommodation for a disability is needed, please contact Angela Tejeda, no later than September 8, 2016 by sending an email message to Angela.Tejeda@hhs.gov or calling 202-401-8297.

Persons wishing to attend this meeting must register by following the instructions in the “Meeting Registration” section of this notice. A confirmation email will be sent to the registrants shortly after completing the registration process.

IV. Special Accommodations. Individuals requiring special accommodations must include the request for these services during registration.

V. Copies of the Charter. The Secretary's Charter for the Physician-Focused Payment Model Technical Advisory Committee is available on the ASPE Web site at https://aspe.hhs.gov/medicare-access-and-chip-reauthorization-act-2015. Information about how to subscribe to the Committee's email listserv is found at https://aspe.hhs.gov/contact-physician-focused-payment-model-technical-advisory-committee.

Dated: August 8, 2016.
Kathryn E. Martin,
Acting Assistant Secretary for Planning and Evaluation.

[FR Doc. 2016-19732 Filed 8-17-16; 8:45 am]

BILLING CODE 4150-05-P